DEPARTMENT OF LABOR Employment and Training Administration

[TA-W-51,839]

GE Transportation Systems Global Signaling, Circuit Board Division, Warrensburg, MO; Notice of Termination of Investigation

Pursuant to section 221 of the Trade Act of 1974, an investigation was initiated on May 21, 2003, in response to a worker petition filed by the State of Missouri Division of Workforce Development, on behalf of workers at GE Transportation Systems Global Signaling, Circuit Board Division, Warrensburg, Missouri. The petitioning group of workers is covered by an active certification issued on September 26, 2002 and which remains in effect (TA-W-40,621). Consequently, further investigation in this case would serve no purpose, and the investigation may be terminated.

Signed in Washington, DC, this 25th day of June 2003.
Richard Church,
Certifying Officer, Division of Trade Adjustment Assistance.

[FR Doc. 03-16908 Filed 7-2-03; 8:45 am]

BILLING CODE 4510-30-P